DEPARTMENT OF ENERGY

Notice of Intent to Prepare an Environmental Impact Statement for the Alignment, Construction, and Operation of a Rail Line to a Geologic Repository at Yucca Mountain, Nye County, NV

AGENCY: U.S. Department of Energy.

ACTION: Notice of intent.

SUMMARY: The U.S. Department of Energy (DOE or the Department) announces its intent to prepare an environmental impact statement (EIS) under the National Environmental Policy Act (NEPA) for the alignment, construction, and operation of a rail line for shipments of spent nuclear fuel, high-level radioactive waste, and other materials from a site near Caliente, Lincoln County, Nevada, to a geologic repository at Yucca Mountain, Nye County, Nevada. On April 2, 2004, the Department signed a Record of Decision announcing its selection, both nationally and in the State of Nevada, of the mostly rail scenario analyzed in the “Final Environmental Impact Statement for a Geologic Repository for the Disposal of Spent Nuclear Fuel and High-Level Radioactive Waste at Yucca Mountain, Nye County, Nevada” (DOE/EIS-0250F, February 2002) (Repository Final EIS). This decision will ultimately require the construction of a rail line to connect the repository site at Yucca Mountain to an existing rail line in the State of Nevada for the shipment of spent nuclear fuel and high-level radioactive waste, in the event that the Nuclear Regulatory Commission authorizes construction of the repository and receipt and possession of these materials at Yucca Mountain. To that end, the Department also decided to select the Caliente rail corridor ¹ in which to examine possible alignments for construction of a rail line that would connect the repository at Yucca Mountain to an existing main rail line in Nevada. DOE is now announcing its intent to prepare this Rail Alignment EIS to assist in selecting this alignment. The EIS also would consider the potential construction and operation of a rail-to-truck intermodal transfer facility, proposed to be located at the confluence of an existing mainline railroad and a highway, to support legal-weight truck transportation until the rail system is fully operational.

¹ A corridor is a strip of land 0.25 miles (400 meters) wide that encompasses one of several possible routes through which DOE could build a rail line. An alignment is the specific location of a rail line in a corridor.

DATES: The Department invites and encourages comments on the scope of the EIS (hereafter referred to as the Rail Alignment EIS) to ensure that all relevant environmental issues and reasonable alternatives are addressed. Public scoping meetings are discussed below in the SUPPLEMENTARY INFORMATION section. DOE will consider all comments received during the 45-day public scoping period, which starts with the publication of this Notice of Intent and ends May 24, 2004. Comments received after the close of the public scoping period will be considered to the extent practicable.

ADDRESSES: Written comments on the scope of this Rail Alignment EIS, questions concerning the proposed action and alternatives, requests for maps that illustrate the Caliente corridor and alternatives, or requests for additional information on the Rail Alignment EIS or transportation planning in general should be directed to: Ms. Robin Sweeney, EIS Document Manager, Office of National Transportation, Office of Civilian Radioactive Waste Management, U.S. Department of Energy, 1551 Hillshire Drive, M/S 011, Las Vegas, NV 89134, Telephone 1-800-967-3477, or via the Internet at http://www.ocrwm.doe.gov under “What's New.”

FOR FURTHER INFORMATION CONTACT: For general information regarding the DOE NEPA process contact: Ms. Carol M. Borgstrom, Director, Office of NEPA Policy and Compliance (EH-42), U.S. Department of Energy, 1000 Independence Ave., SW., Washington, DC 20585, Telephone 202-586-4600, or leave a message at 1-800-472-2756.

SUPPLEMENTARY INFORMATION:

Background

On July 23, 2002, the President signed into law (Pub. L. 107-200) a joint resolution of the U.S. House of Representatives and the U.S. Senate designating the Yucca Mountain site in Nye County, Nevada, for development as a geologic repository for the disposal of spent nuclear fuel and high-level radioactive waste. Subsequently, the Department issued a Record of Decision (April 2, 2004) to announce its selection, both nationally and in the State of Nevada, of the mostly rail scenario analyzed in the Repository Final EIS as the mode of transportation of spent nuclear fuel and high-level radioactive waste to the repository. Under the mostly rail scenario, the Department would rely on a combination of rail, truck and possibly barge to transport to the repository site at Yucca Mountain up to 70,000 metric tons of heavy metal (MTHM) of spent nuclear fuel and high-level radioactive waste. Most of the spent nuclear fuel and high-level radioactive waste, however, would be transported by rail.

The Department's decision to select the mostly rail scenario in Nevada will ultimately require the construction of a rail line to connect the repository site at Yucca Mountain to an existing rail line in the State of Nevada for the shipment of spent nuclear fuel and high-level radioactive waste in the event that the Nuclear Regulatory Commission authorizes construction of the repository and receipt and possession of these materials at Yucca Mountain. To that end, in the same Record of Decision, the Department also decided to select the Caliente rail corridor to study possible alignments for this rail line.

In the Repository Final EIS, DOE defined a rail corridor as a 0.25 miles (400-meter) wide strip of land that encompasses one of several possible alignments or specific locations within which DOE could build a rail line. The Caliente rail corridor was described as originating at an existing siding to the mainline railroad near Caliente, Nevada, and extending in a westerly direction to the northwest corner of the Nevada Test and Training Range, before turning south-southeast to the repository at Yucca Mountain.

In the Repository Final EIS, DOE also identified eight variations along the Caliente corridor that may minimize or avoid environmental impacts and/or mitigate construction complexities. Variations were defined as a strip of land 0.25 miles (400-meters) wide that describes a different route, from one point along the corridor to another point on the corridor. Thus, the Caliente corridor ranges between 318 miles (512 kilometers) and 344 miles (553 kilometers) in length, depending on the variations considered. In the Repository Final EIS, DOE did not identify variations for about 55 percent of the length of the corridor (hereafter these areas are referred to as “common segments”).

DOE proposes to consider the common segments and the eight variations as preliminary alternatives to be evaluated in the Rail Alignment EIS. These alternatives are described in the Preliminary Alternatives section. In addition, DOE will consider other potential variations outside of the 0.25 mile wide corridor that might minimize, avoid or mitigate adverse environmental impacts.

For purposes of analysis in the Rail Alignment EIS, a rail line alignment is defined as a strip of land 100 feet (30 meters) on either side of the centerline of the track within the Caliente corridor, passing through the common segments and variations. DOE will define regions of influence for each environmental resource (for example, biological or cultural resources) that will extend beyond the dimensions of the alignment and allow DOE to estimate environmental impacts over the geographic area in which the impact is likely to be realized. Within these regions of influence, DOE will estimate environmental impacts of the common segments and alternatives, both separately and in aggregate. In this way, the analyses of the Rail Alignment EIS will offer DOE flexibility to minimize, avoid or otherwise mitigate potential environmental impacts of the final alignment chosen for construction.

Proposed Action

In the Rail Alignment EIS, the Proposed Action is to determine a rail alignment, and to construct and operate a rail line for shipments of spent nuclear fuel, high-level radioactive waste, and other materials ² from a site near Caliente, Lincoln County, Nevada to a geologic repository at Yucca Mountain, Nye County, Nevada. Under the Proposed Action, the Caliente rail line would be designed and built consistent with Federal Railroad Administration safety standards. Construction would take between three and four years.

² Other materials refer to materials related to the construction (e.g., reinforcing steel, cement) and operation (e.g., waste packages, fuel oil) of the repository.

Construction activities would include the development of construction support areas; construction of access roads to the rail line construction initiation points ³ and to major structures to be built, such as bridges and culverts; and movement of materials and equipment to the construction initiation points. The number and location of construction initiation points would be based on such variables as the length of the rail line, the construction schedule, the number of contractors used for construction, the number of structures to be built, the supply of materials, and the locations of existing access roads adjacent to the rail line.

³ DOE anticipates that construction of the rail line may occur at several locations simultaneously along the alignment.

The construction of the rail line would require the clearing and excavation of previously undisturbed lands, and the establishment of borrow and spoils ⁴ areas. To establish a stable base for the rail track, construction crews would excavate some areas and fill (add more soil to) others, as determined by terrain features. To the extent possible, material excavated from one area would be used in areas that required fill material. However, if the distance to an area requiring fill material were excessive, the excavated material would be disposed of in spoils areas, and a borrow area would be established adjacent to the area requiring fill material. Access roads to spoils and borrow areas would be built during the track base construction work.

⁴ Borrow areas are areas outside of the rail alignment where construction personnel could obtain earthen materials such as aggregate for construction of the rail line. Spoil areas are areas outside of the alignment for the deposition of excess earthern materials excavated during construction of the rail line.

Under the Proposed Action, DOE would construct a secure railyard and facilities at the operational interface with the mainline railroad near Caliente, Nevada. The facilities would include sidings connected to the mainline, and buildings and associated equipment for track and equipment maintenance, locomotive refueling, and train crew quarters.

DOE also will consider the potential construction and operation of a rail-to-truck intermodal transfer facility to support limited legal-weight truck transportation until the rail system is fully operational. This intermodal transfer facility could be constructed at the confluence of an existing mainline railroad and a highway.

Typical construction equipment (front-end loaders, power shovels, and other diesel-powered support equipment) would be used for clearing and excavation work. Trucks would spray water along graded areas for dust control and soil compaction. The fill material used along the rail line to establish a stable base for the track would be compacted to meet design requirements. Water could be shipped from other locations or obtained from wells drilled along the rail line.

Railroad track construction would consist of the placement of railbed material (sub-ballast), ballast (support and stabilizing materials for the rail ties), ties and rail over the completed railbed base. Other activities would include: installation of at-grade crossings, fencing as needed, train monitoring and signals and communication equipment, and final grading of slopes, rock-fall protection devices, and restoration of disturbed areas.

Operation of the Caliente rail line would be consistent with Federal Railroad Administration standards for maintenance, operations, and safety. A typical spent nuclear fuel and high-level radioactive waste train would consist of two diesel-electric locomotives; three or more rail cars containing spent nuclear fuel or high-level radioactive waste; buffer cars; and an escort car. A typical train carrying construction materials would not have buffer cars or an escort car.

At the Yucca Mountain repository, rail cars containing casks of spent nuclear fuel and high-level radioactive waste would move through a security check into the radiologically controlled area. The casks would be inspected and protective barriers removed, in preparation for waste handling at the repository. Rail cars carrying construction materials would be offloaded and the materials stockpiled on site.

Preliminary Alternatives

As required by the Council on Environmental Quality and Department regulations that implement NEPA, the Rail Alignment EIS will analyze and present the environmental impacts associated with the range of reasonable alternatives to meet DOE's purpose and need for a rail line, and a no action alternative. The preliminary alternatives for the alignment comprise a series of common segments and alternatives (maps may be obtained as described above in ADDRESSES). The Department is particularly interested in identifying and subsequently evaluating any additional reasonable alternatives that would reduce or avoid known or potential adverse environmental impacts, national security activities, features having aesthetic values, and land-use conflicts, or alternatives that should be eliminated from detailed consideration. This could include identifying alternatives that could avoid wilderness study areas or other land use conflicts. The preliminary alternatives include:

Interface With Mainline Railroad

Three alternatives are available to connect to the existing mainline railroad, each of which would intersect the common segment of the rail alignment about 4 miles (6.5 kilometers) southwest of Panaca, Nevada, along U.S. 93 in the Meadow Valley area. The Caliente Alternative would begin at the town of Caliente, enter Meadow Valley at Indian Cove and extend north through Meadow Valley to converge with the common segment. This alternative is about 10.5 miles (17 kilometers) in length.

The Eccles Alternative would begin at the Eccles siding along Clover Creek about 5 miles (8 kilometers) east of Caliente, trend generally north entering Meadow Valley on the southeast, and would then trend northward to converge with the common segment. This alternative is about 11 miles (18 kilometers) in length.

The Crestline Alternative would begin north of the Crestline siding in Sheep Spring Draw, extend west after crossing Lincoln County Road 75, and pass north of the Cedar Range. It would then veer northwesterly just north of Miller Spring Wash and converge with the common segment just south of the Big Hogback. This alternative is about 23 miles (38 kilometers) in length.

White River

The two White River Alternatives would depart from the common segment about 1.5 miles (2.5 kilometers) west of its crossing of the White River immediately west of State Route 318. The northern White River Alternative (WR1) would follow the White River, curve around the northern end of the Seaman Range, and then turn southwest entering Coal Valley. This alternative is about 25 miles (40 kilometers) in length.

The southern White River Alternative (WR2) would depart the same common segment but would extend westerly along the flanks of Timber Mountain, proceed through Timber Mountain Pass, and then enter Coal Valley. This alternative is about 18.5 miles (30 kilometers) in length.

Once in Coal Valley, both alternatives would merge with the Garden Valley Alternatives. Several options are available to merge the White River Alternatives with the Garden Valley Alternatives.

Garden Valley

The southern Garden Valley Alternative (GV2) would start about 2 miles (3 kilometers) east of the water gap located along Seaman Wash Road, proceed westward through the Golden Gate Mountains, and turn southwesterly through Garden Valley to reconnect to a common segment about 2.5 miles (4 kilometers) northeast of the pass between the Worthington Mountains and the Quinn Canyon Range. This alternative is about 17 miles (27.5 kilometers) in length.

The northern Garden Valley Alternative (GV1) would diverge from the same common segment as Alternative GV2, but would pass through the Golden Gate Mountains about 4 miles (6.5 kilometers) further north of the Alternative GV2 location. Alternative GV1 would then continue southwesterly through Garden Valley to reconnect with the common segment described for Alternative GV2. This alternative is about 19 miles (31 kilometers) in length.

Mud Lake

The Mud Lake Alternatives would depart a common segment located near the northwest corner of the Nevada Test and Training Range (previously known as Nellis Air Force Range) immediately north of Mud Lake. The western Mud Lake Alternative (ML1) would pass about 1.5 miles (2.5 kilometers) northwest of Mud Lake avoiding its western shoreline, and would extend southward to reconnect with a common segment. This alternative is about 3 miles (5 kilometers) in length.

The eastern Mud Lake Alternative (ML2) also would skirt Mud Lake to avoid its western shoreline and would reconnect with the same common segment as the western Mud Lake Alternative. This alternative is about 4 miles (6.5 kilometers) in length.

Goldfield

There are two alternatives associated with Goldfield. The western Goldfield Alternative (GF1), from its connection to Alternative ML1, would extend southward into the Goldfield Hills area passing about 1 mile (1.5 kilometers) east of Black Butte. This alternative would then turn east to pass about 1 mile (1.5 kilometers) northeast of Espina Hill and then would bear south to pass about 1 mile (1.5 kilometers) east of Blackcap Mountain. Alternative GF1 would then continue in a southerly direction following an abandoned rail line to reconnect to a common segment located about 2.5 miles (4 kilometers) north-northeast of Ralston, Nevada. This alternative is about 25 miles (41 kilometers) in length.

From its connection with Alternative ML2, the eastern Goldfield Alternative (GF2) would extend south-southeast into the Nevada Test and Training Range, and then would emerge from the Range turning southwest to converge with the western Goldfield Alternative (GF1) as it enters Stonewall Flat. This alternative is about 22 miles (35.5 kilometers) in length.

DOE is aware of concerns raised by the Department of Defense and the U.S. Air Force regarding the alternatives that intersect the Nevada Test and Training Range lands, and will consult with the Department of Defense and the U.S. Air Force during the Rail Alignment EIS process to ensure the transportation alignment selected does not compromise public safety, national security interests, or training and testing at the Nevada Test and Training Range.

Bonnie Claire

Bonnie Claire comprises two alternatives that would depart a common segment located about 3.3 miles (5.5 kilometers) southeast of Lida Junction, Nevada. The western Bonnie Claire Alternative (BC1) would follow an abandoned rail line to cross U.S. 95 about 1 mile (1.5 kilometers) south of Stonewall Pass, and would then trend southeast paralleling U.S. 95 on the west across Sarcobatus Flat. This alternative would then cross State Route 267 about 1.5 miles (2.5 kilometers) southwest of Scotty's Junction, continuing southeasterly until crossing U.S. 95 again on the eastern edge of Sarcobatus Flat about 14 miles (22.5 kilometers) northwest of Springdale, Nevada. This alternative is about 22 miles (35.5 kilometers) in length.

The eastern Bonnie Claire Alternative (BC2) would parallel the contours of Stonewall Mountain to the southeast and would then extend south, adjacent to the western edge of Pahute Mesa. This alternative would then parallel the northern side of U.S. 95 about 1 mile (1.5 kilometers) until it converges with the western Bonnie Claire Alternative (BC1) on the eastern edge of Sarcobatus Flat. This alternative is about 25.5 miles (41 kilometers) in length.

DOE is aware of concerns raised by the Department of Defense and the U.S. Air Force regarding the alternatives that intersect the Nevada Test and Training Range lands, and will consult with the Department of Defense and the U.S. Air Force during the Rail Alignment EIS process to ensure the transportation alignment selected does not compromise public safety, national security interests, or training and testing at the Nevada Test and Training Range.

Oasis Valley

Oasis Valley includes two alternatives that would avoid naturally-occurring springs. Both alternatives would depart a common segment about 2 miles (3 kilometers) east-northeast of Oasis Mountain. Alternative OV1 is about 3 miles (5 kilometers) in length. Alternative OV2, which is about 3.5 miles (5.5 kilometers) in length, would cross Oasis Valley further to the east of Alternative OV1, thereby increasing the distance to the springs.

Beatty Wash

The Beatty Wash alternatives would depart from a common segment about 3 miles (5 kilometers) east-northeast of the hot springs north of Beatty and about 2 miles (3 kilometers) north-northeast of Beatty Wash. The eastern Beatty Wash Alternative (BW2) would extend east for about 5 miles (8 kilometers), then turn southward crossing a pass about 1 mile (1.5 kilometers) east of the Silicon and Thompson Mines. Alternative BW2 would then turn south to converge with Alternative BW1 about 4 miles (6.5 kilometers) east-northeast of Merklejoho Peak. This alternative is about 14 miles (22 kilometers) in length.

The western Beatty Wash Alternative (BW1) would extend south from the common segment described for Alternative BW2, crossing Beatty Wash and proceeding to the west of the Silicon and Thompson Mines before reconnecting with a common segment. This alternative is about 8 miles (13 kilometers) in length.

No Action Alternative

The No Action Alternative would evaluate the consequences of not constructing a rail line in Nevada for the transportation of spent nuclear fuel, high-level radioactive waste and other materials. Under the No Action Alternative, these materials would be shipped by legal-weight and heavy-haul truck within the State of Nevada to a repository at Yucca Mountain. About 53,000 legal-weight truck and 300 heavy-haul truck shipments of spent nuclear fuel and high-level radioactive waste would be required.

Environmental Issues and Resources To Be Examined

To facilitate the scoping process, DOE has identified a preliminary list of issues and environmental resources that it may consider in the Rail Alignment EIS. The list is not intended to be all-inclusive or to predetermine the scope or alternatives of the Rail Alignment EIS, but should be used as a starting point from which the public can help DOE define the scope of the EIS. DOE anticipates incorporating by reference the relevant analyses of the Repository Final EIS, supplemented as appropriate.

• Potential impacts to the concept of multiple use as it applies to public land use planning and management specified by the Federal Land Policy and Management Act of 1976.

• Potential impacts to land use and ownership.

• Potential impacts to plants, animals and their habitats, including impacts to wetlands, and threatened and endangered and other sensitive species.

• Potential impacts to cultural and Native American resources.

• Potential impacts to paleontological resources.

• Potential impacts to the public from noise and vibration.

• Potential impacts to the general public and workers from radiological exposures during incident-free operations of the rail line in Nevada.

• Potential impacts to the general public and workers from radiological exposures from potential accidents during operations of the rail line in Nevada.

• Potential impacts to water resources and floodplains.

• Potential impacts to aesthetic values.

• Potential disproportionately high and adverse impacts to low-income and minority populations (environmental justice).

• Irretrievable and irreversible commitment of resources.

• Compliance with applicable Federal, state and local requirements.

The Department specifically invites comments on the following:

1. Should additional alternatives be considered that might minimize, avoid or mitigate adverse environmental impacts (for example, looking beyond the 0.25 mile wide corridor, avoiding wilderness study areas, Native American Trust Lands, or encroachment on the Nevada Test and Training Range)?

2. Should any of the preliminary alternatives be eliminated from detailed consideration?

3. Should additional environmental resources be considered?

4. Should DOE allow private entities to ship commercial commodities on its rail line?

5. What mitigation measures should be considered?

6. Are there national security issues that should be addressed?

Schedule

The DOE intends to issue the Draft Rail Alignment EIS early in 2005 at which time its availability will be announced in the Federal Register and local media. A public comment period will start upon publication of the Environmental Protection Agency's Notice of Availability in the Federal Register. The Department will consider and respond to comments received on the Draft Rail Alignment EIS in preparing the Final Rail Alignment EIS.

Other Agency Involvement

The Department expects to invite the following agencies to be cooperating agencies in the preparation of the Rail Alignment EIS: U.S. Bureau of Land Management, the U.S. Air Force, and the U.S. Surface Transportation Board. These agencies were selected because they have management and regulatory authority over lands traversed by an alternative rail alignment within the Caliente rail corridor, or special expertise germane to the construction and operation of a rail line. DOE will consult with the U.S. Bureau of Indian Affairs, U.S. Army Corps of Engineers, U.S. Fish and Wildlife Service, U.S. Nuclear Regulatory Commission, Native American Tribal organizations, the State of Nevada, and Nye, Lincoln and Esmeralda Counties regarding the environmental and regulatory issues germane to the Proposed Action. DOE invites comments on its identification of cooperating and consulting agencies and organizations.

Public Scoping Meetings

DOE will hold public scoping meetings on the Rail Alignment EIS. The meetings will be held at the following locations and times:

• Amargosa Valley, Nevada. Longstreet Inn and Casino, Highway 373, May 3, 2004 from 4-8 p.m.

• Goldfield, Nevada. Goldfield Community Center, 301 Crook Street, May 4, 2004 from 4-8 p.m.

• Caliente, Nevada. Caliente Youth Center, U.S. Highway 93, Caliente, Nevada, May 5, 2004 from 4-8 p.m.

The public scoping meetings will be an open meeting format without a formal presentation by DOE. Members of the public are invited to attend the meetings at their convenience any time during meeting hours and submit their comments in writing at the meeting, or in person to a court reporter who will be available throughout the meeting. This open meeting format increases the opportunity for public comment and provides for one-on-one discussions with DOE representatives involved with the Rail Alignment EIS and Nevada transportation project.

The public scoping meetings will be held during the public scoping comment period. The comment period begins with publication of this NOI in the Federal Register and closes May 24, 2004. Comments received after this date will be considered to the extent practicable. Written comments may be provided in writing, facsimile, or by email to Ms. Robin Sweeney, EIS Document Manager (see ADDRESSES above).

Public Reading Rooms

Documents referenced in this Notice of Intent and related information are available at the following locations: Beatty Yucca Mountain Information Center, 100 North E. Avenue, Beatty, NV 89003, (775) 553-2130; Yucca Mountain Information Center, 105 S. Main Street, Goldfield, NV 89013, (775) 485-3419; Las Vegas Yucca Mountain Information Center, 4101-B Meadows Lane, Las Vegas, NV 89107, (702) 295-1312; Lincoln County Nuclear Waste Project Office, 100 Depot Avenue, Caliente, NV 89008, (775) 726-3511; Nye County Department of Natural Resources and Federal Facilities, 1210 E. Basin Road, Suite #6, Pahrump, NV 89060 (775) 727-7727; Pahrump Yucca Mountain Information Center, 1141 S. Highway 160, Suite #3, Pahrump, NV 89041, (775) 727-0896; University of Nevada, Reno, The University of Nevada Libraries, Business and Government Information Center, M/S 322, 1664 N. Virginia Street, Reno, NV 89557, (775) 784-6500, Ext. 309; and the U.S. Department of Energy Headquarters Office Public Reading Room, 1000 Independence Avenue SW., Room 1E-190 (ME-74) FORS, Washington, DC 20585, 202-586-3142.

Issued in Washington, DC, on April 2, 2004.
Beverly A. Cook,
Assistant Secretary, Environment, Safety and Health.

[FR Doc. 04-7950 Filed 4-7-04; 8:45 am]

BILLING CODE 6450-01-P